CONSUMER PRODUCT SAFETY COMMISSION

Sunshine Act Meeting Notice

FEDERAL REGISTER CITATION OF PREVIOUS ANNOUNCEMENT: Vol. 77, No. 188, Thursday, September 27, 2012, page 593898.

ANNOUNCED TIME AND DATE OF OPEN MEETING: 10 a.m.-12 p.m., Wednesday October 30, 2012.

CHANGES TO OPEN MEETING AGENDA:

MATTERS TO BE CONSIDERED: Briefing: Infant Swings.

ITEMS REMOVED FROM THE AGENDA: Decisional Matters: 1. Bassinets and Cradles—Notice of Proposed Rulemaking; 2. Consideration of Opportunities to Reduce Third Party Testing Costs Consistent with Assuring the Compliance of Children's Products.

For a recorded message containing the latest agenda information, call (301) 504-7948.

CONTACT PERSON FOR ADDITIONAL INFORMATION: Todd A. Stevenson, Office of the Secretary, 4330 East West Highway, Bethesda, MD 20814 (301) 504-7923.

Dated: October 3, 2012.
Todd A. Stevenson,
Secretary.

[FR Doc. 2012-24746 Filed 10-3-12; 11:15 am]

BILLING CODE 6355-01-P